DEPARTMENT OF HEALTH AND HUMAN SERVICES

Advisory Group on Prevention, Health Promotion, and Integrative and Public Health; Notice of Meeting

AGENCY: Office of the Surgeon General of the United States Public Health Service, Office of the Assistant Secretary for Health, Office of the Secretary, Department of Health and Human Services.

ACTION: Notice.

SUMMARY: In accordance with Section 10(a) of the Federal Advisory Committee Act, Public Law 92-463, as amended (5 U.S.C. App.), notice is hereby given that a web meeting is scheduled to be held for the Advisory Group on Prevention, Health Promotion, and Integrative and Public Health (the “Advisory Group”). The web meeting will be open to the public. The agenda will include the review and approval of the Second Report of the Advisory Group. Additional information about the Advisory Group and the agenda for this meeting can be obtained by accessing the following Web site: http://www.healthcare.gov/prevention/nphpphc/advisorygrp/index.html.

DATES: The meeting will be held on June 25, 2012 from 2:30 p.m. to 5:00 p.m.

ADDRESSES: The meeting will be held online via WebEx software. Please note that webinar technology will be utilized that will allow you to call in to audio and simultaneously view the informational slides on your computer as they are presented. For detailed instructions about how to make sure that your windows computer and browser are set up for WebEx and to register for the meeting, please email the designated point of contact for the Advisory Group at prevention.council@hhs.gov.

FOR FURTHER INFORMATION CONTACT: Office of the Surgeon General, 200 Independence Ave. SW., Hubert H. Humphrey Building, Room 701H, Washington, DC 20001; 202-205-9517; prevention.council@hhs.gov.

SUPPLEMENTARY INFORMATION: On June 10, 2010, the President issued Executive Order 13544 to comply with the statutes under Section 4001 of the Patient Protection and Affordable Care Act, Public Law 111-148. This legislation mandated that the Advisory Group was to be established within the Department of Health and Human Services. The charter for the Advisory Group was approved by the Secretary of Health and Human Services on June 23, 2010; the charter was filed with the appropriate Congressional committees and Library of Congress on June 24, 2010. The Advisory Group has been established as a non-discretionary Federal advisory committee.

The Advisory Group has been established to provide recommendations and advice to the National Prevention, Health Promotion and Public Health Council (the “Council”). The Advisory Group shall provide assistance to the Council in carrying out its mission.

The Advisory Group membership shall consist of not more than 25 non-Federal members to be appointed by the President. The membership shall include a diverse group of licensed health professionals, including integrative health practitioners who have expertise in (1) worksite health promotion; (2) community services, including community health centers; (3) preventive medicine; (4) health coaching; (5) public health education; (6) geriatrics; and (7) rehabilitation medicine. There are currently 22 members of the Advisory Group. This will be the sixth meeting of the Advisory Group.

Public attendance at the web meeting is limited. Members of the public who wish to attend the web meeting must register by 12:00 p.m. EST June 19, 2012. Individuals should notify the designated contact to register for public attendance at prevention.council@hhs.gov. Individuals who plan to attend the web meeting and need special assistance and/or accommodations should notify the designated contact for the Advisory Group. The public will have opportunity to provide electronic written comments to the Advisory Group on the June 25, 2012 during the web meeting. Any member of the public who wishes to have printed material distributed to the Advisory Group for this scheduled web meeting should submit material to the designated point of contact for the Advisory Group no later than 12:00 p.m. EST June 14, 2012.

Dated: May 25, 2012.
Corinne M. Graffunder,
Alternate Designated Federal Officer, Advisory Group on Prevention, Health Promotion, and Integrative and Public Health, Office of the Surgeon General.

[FR Doc. 2012-13493 Filed 6-4-12; 8:45 am]

BILLING CODE 4150-28-P